DEPARTMENT OF TRANSPORTATION

Pipeline and Hazardous Materials Safety Administration

[Docket No. PHMSA-2017-0090]

Pipeline Safety: Request for Special Permit, National Fuel Gas Supply Corporation

AGENCY: Pipeline and Hazardous Materials Safety Administration (PHMSA); DOT.

ACTION: Notice.

SUMMARY: PHMSA is publishing this notice to seek public comment on a request for a special permit, seeking relief from compliance with certain requirements in the federal pipeline safety regulations. After conclusion of the 30-day comment period, PHMSA will review the comments received from this notice as part of its evaluation to grant or deny the special permit request.

DATES: Submit any comments regarding this special permit request by July 26, 2019.

ADDRESSES: Comments should reference the docket number for the specific special permit request and may be submitted in the following ways:

• E-Gov Website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: There is a privacy statement published on http://www.Reglations.gov. Comments, including any personal information provided, are posted without changes or edits to http://www.Regulations.gov.

FOR FURTHER INFORMATION CONTACT:

General: Ms. Kay McIver by telephone at 202-366-0113, or email at kay.mciver@dot.gov.

Technical: Mr. Joshua Arnold by telephone at 202-366-6085, or email at joshua.arnold@dot.gov.

SUPPLEMENTARY INFORMATION: PHMSA has received a special permit request from the National Fuel Gas Supply Corporation (NFG), to deviate from the federal pipeline safety regulations at 49 CFR 192.53, 192.55, 192.105, 192.107, 192.109, 192.111, 192.113, 192.144, 192.149, 192.150, 192.327, 192.463, and 192.619, for the use of FlexSteel pipe and fittings in a regulated interstate gas transmission pipeline in Class 1 and Class 2 locations. NFG proposes to insert a 6-inch diameter FlexSteel pipe, 5.60-inch inside diameter and 7.05-inch outside diameter, into an existing 12.75-inch outside diameter pipeline. The 6-inch diameter FlexSteel pipe will have a maximum allowable operating pressure of 720 pounds per square inch gauge (psig). NFG proposes to install the FlexSteel pipe into approximately 5.8 miles of an existing 12.75-inch outside diameter bare steel pipeline known as the FM120 pipeline located in McKean and Elk Counties in Pennsylvania. FlexSteel is pipe comprised of high-density polyethylene PE47 10 inner and outer layers with a steel middle layer. The FlexSteel pipe will have a rating of 1,500 psig, empty weight of 12.9 pounds per foot, maximum pipe operating temperature of 150 degrees Fahrenheit, and maximum installation tension of 30,000 pounds.

A Draft Environmental Assessment (DEA) and Proposed Finding of No Significant Impact (FONSI) with proposed special permit conditions are available for comment at http://www.Regulations.gov, in Docket Number PHMSA-2017-0090. We invite interested persons to participate by reviewing the special permit request, DEA, and proposed FONSI, and by submitting written comments, data, or other views. Please include any comments on potential safety and environmental impacts that may result if the special permit is granted.

Before issuing a decision on the special permit request, PHMSA will evaluate all comments received on or before the comment closing date. Comments received after the closing date will be evaluated, if it is possible to do so, without incurring additional expense or delay. PHMSA will consider each relevant comment we receive, in making our decision to grant or deny a request.

Issued in Washington, DC, on June 20, 2019, under authority delegated in 49 CFR 1.97.
Alan K. Mayberry,
Associate Administrator for Pipeline Safety.

[FR Doc. 2019-13577 Filed 6-25-19; 8:45 am]

BILLING CODE 4910-60-P